FEDERAL COMMUNICATIONS COMMISSION

47 CFR Part 54

[WC Docket No. 10-90; FCC 16-33, 16-64, 16-143, 16-115 and 17-2]

Connect America Fund

AGENCY: Federal Communications Commission.

ACTION: Final rule; announcement of effective date.

SUMMARY: In this document, the Federal Communications Commission (Commission) announces that the Office of Management and Budget (OMB) has approved, for a period of three years, an information collection associated with the Commission's Connect America Fund, The Commission submitted revised information collection requirements for review and approval by OMB, as required by the Paperwork Reduction Act (PRA) of 1995, December 12, 2017, which were approved by the OMB on February 1, 2018. This document is consistent with FCC Orders, which stated that the Commission would publish a document in the Federal Register announcing the effective date of the revised information collection requirements.

DATES: The amendments regarding §§ 54.316(a)(1) and (a)(5) and (6), (b)(6), 54.320(d), and the addition of § 54.321 published at 81 FR 69696, October 7, 2016, are effective February 15, 2018. OMB has approved the reporting requirements for recipients of Phase II support awarded in partnership with New York's New NY Broadband Program as adopted in FCC 17-2, paragraphs 69-70 as of February 1, 2018.

FOR FURTHER INFORMATION CONTACT: Alexander Minard, Wireline Competition Bureau at (202) 418-7400 or TTY (202) 418-0484. For additional information concerning the Paperwork Reduction Act information collection requirements contact Nicole Ongele at (202) 418-2991 or nicole.ongele@fcc.gov.

SUPPLEMENTARY INFORMATION: This document announces that, on February 1, 2018, OMB approved, for a period of three years, the information collection requirements contained in the Commission's Orders, FCC 16-33, published at 81 FR 24282, April 25, 2016, FCC 16-64, published at 81 FR 44414, July 7, 2016, FCC 16-143, published at 81 FR 83706, November 22, 2016, FCC 16-115, published at 81 FR 69696, October 7, 2016 and the reporting requirements in FCC 17-2. The OMB Control Number is 3060-1228. The Commission publishes this notice as an announcement of the effective date of the rules 54.316(a)(1), 54.316(a)(5) and (6), 54.316(b)(6), 54.320(d), 54.321 published at 81 FR 24282, April 25, 2016, 81 FR 44414, July 7, 2016 (Phase II Auction Order), and 81 FR 83706, November 22, 2016, 81 FR 69696, October 7, 2016, and the reporting requirements for recipients of Phase II support awarded in partnership with New York's New NY Broadband Program as adopted in FCC 17-2, paragraphs 69-70. If you have any comments on the burden estimates listed below, or how the Commission can improve the collections and reduce any burdens caused thereby, please contact Nicole Ongele, Federal Communications Commission, Room 1-A620, 445 12th Street SW, Washington, DC 20554. Please include the OMB Control Number, 3060-1228, in your correspondence. The Commission will also accept your comments via email please send them to PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on February 1, 2018, for the rules 54.316(a)(1), 54.316(a)(5) and (6), 54.316(b)(6), 54.320(d), 54.321 published at 81 FR 24282, April 25, 2016, 81 FR 44414, July 7, 2016, and 81 FR 83706, November 22, 2016, 81 FR 69696, October 7, 2016, and the reporting requirements for recipients of Phase II support awarded in partnership with New York's New NY Broadband Program as adopted in FCC 17-2, paragraphs 69-70. Under 5 CFR 1320, an agency may not conduct or sponsor a collection of information unless it displays a current, valid OMB Control Number.

No person shall be subject to any penalty for failing to comply with a collection of information subject to the Paperwork Reduction Act that does not display a current, valid OMB Control Number. The OMB Control Number is 3060-1228.

The foregoing notice is required by the Paperwork Reduction Act of 1995, Public Law 104-13, October 1, 1995, and 44 U.S.C. 3507.

The total annual reporting burdens and costs for the respondents are as follows:

OMB Control Number: 3060-1228.

OMB Approval Date: February 1, 2018.

OMB Expiration Date: February 28, 2021.

Title: Connect America Fund—High Cost Portal Filing.

Form No.: N/A.

Respondents: Business or other for-profit, not-for-profit institutions.

Number of Respondents and Responses: 1,599 unique respondents; 3,731 responses.

Estimated Time per Response: 8-60 hours.

Frequency of Response: On occasion, quarterly reporting requirements, annual reporting requirements, one-time reporting requirement and recordkeeping requirement.

Obligation to Respond: Required to obtain or retain benefits. Statutory authority for this information collection is contained in 47 U.S.C. 151-154, 155, 201-206, 214, 218-220, 251, 252, 254, 256, 303(r), 332, 403, 405, 410, and 1302.

Total Annual Burden: 68,607 hours.

Total Annual Cost: No Cost.

Nature and Extent of Confidentiality: We note that USAC must preserve the confidentiality of certain data obtained from respondents; must not use the data except for purposes of administering the universal service programs or other purposes specified by the Commission; and must not disclose data in company-specific form unless directed to do so by the Commission. Respondents may request materials or information submitted to the Commission or the Administrator believed confidential to be withheld from public inspection under 47 CFR 0.459 of the FCC's rules.

Needs and Uses: This information collection addresses the requirement that certain carriers with high cost reporting obligations must file information about their locations which meet their broadband deployment public interest obligations via an electronic portal (“portal”). The Rate-of-Return Order required that the Universal Service Administrative Company (USAC) establish the portal so that carriers could file their location data with the portal starting in 2017. The Rate-of-Return Order also required all recipients of Phase II model-based support and rate-of-return carriers to submit geocoded location data and related certifications to the portal. Recipients of Phase II model-based support had been required to file such information in their annual reports due by July 1, 2017. The Phase II Auction Order requires auction winners to build-out networks capable of meeting their public interest obligations and report, to an online portal, locations to which auction winners had deployed such networks. This information collection also addresses the new portal reporting requirements for carriers receiving Alaska Plan support, including their submission of fiber/microwave middle-mile network maps, and recipients of Phase II support that is awarded in partnership with New York's New NY Broadband Program.

Federal Communications Commission.
Marlene H. Dortch,
Secretary, Office of the Secretary.

[FR Doc. 2018-02996 Filed 2-14-18; 8:45 am]

BILLING CODE 6712-01-P